DEPARTMENT OF THE INTERIOR

Bureau of Ocean Energy Management

Record of Decision for the 2017-2022 Outer Continental Shelf Oil and Gas Leasing Program Final Programmatic Environmental Impact Statement; MMAA104000

AGENCY: Bureau of Ocean Energy Management, Interior.

ACTION: Notice of availability.

SUMMARY: The Bureau of Ocean Energy Management (BOEM) announces the availability of the 2017-2022 Outer Continental Shelf (OCS) Oil and Gas Leasing Program Final Programmatic EIS (Final Programmatic EIS) Record of Decision (ROD). The ROD is available at boemoceaninfo.com.

FOR FURTHER INFORMATION CONTACT: Jill Lewandowski, Ph.D., Bureau of Ocean Energy Management, 45600 Woodland Road VAM-OEP, Sterling, VA 20166. Dr. Lewandowski may also be reached by telephone at (703) 787-1703.

SUPPLEMENTARY INFORMATION: In accordance with 40 CFR 1505.2, the Bureau of Ocean Energy Management (BOEM) announces the availability of the 2017-2022 Outer Continental Shelf (OCS) Oil and Gas Leasing Program Final Programmatic EIS (Final Programmatic EIS) Record of Decision (ROD). The ROD is available at boemoceaninfo.com.

The Final Programmatic EIS was published on November 25, 2016 (81 FR 85221). BOEM considered comments submitted on the Final Programmatic EIS before a final decision was made.

Authority: This Notice of Availability of a ROD is issued in accordance with the National Environmental Policy Act of 1969, as amended (Pub. L. 91-190, 42 U.S.C. 4231 et seq.), and implementing regulations (See 40 CFR 1505.2).

Walter D. Cruickshank,
Acting Director, Bureau of Ocean Energy Management.

[FR Doc. 2017-00886 Filed 1-18-17; 8:45 am]

BILLING CODE 4310-MR-P